DEPARTMENT OF HOUSING AND URBAN DEVELOPMENT

24 CFR Part 3286

[Docket No. FR-4812-N-03]

RIN 2502-AH97

HUD's Manufactured Home Installation Program Extension of Public Comment Period

AGENCY: Office of the Assistant Secretary for Housing—Federal Housing Commissioner, HUD.

ACTION: Proposed rule.

SUMMARY: This proposed rule announces an extension of the public comment period on HUD's proposed rule regarding the Manufactured Home Installation Program, published on June 14, 2006. The June 14, 2006, proposed rule provided for a 60-day public comment period, which would close the public comment period on August 14, 2006. This notice advises that the public comment period has been extended to September 14, 2006.

DATES: Comments must be submitted on or before September 14, 2006.

ADDRESSES: Interested persons are invited to submit written comments regarding this proposed rule to the Regulations Division, Office of General Counsel, Room 10276, Department of Housing and Urban Development, 451 Seventh Street, SW., Washington, DC 20410. All communications should refer to the above docket number and title. Facsimile (FAX) comments and e-mail comments are not acceptable. A copy of each communication submitted will be available for public inspection and copying between 8 a.m. and 5 p.m. weekdays at the above address. Due to security measures at the HUD Headquarters building, an advance appointment to review the public comments must be scheduled by calling the Regulations Division at (202) 708-3055 (this is not a toll-free number). Copies of all comments submitted are available for inspection and downloading at http://www.regulations.gov.

FOR FURTHER INFORMATION CONTACT: William W. Matchneer III, Associate Deputy Assistant Secretary for Regulatory Affairs, Office of Regulatory Affairs and Manufactured Housing, Department of Housing and Urban Development, 451 Seventh Street, SW., Room 9164, Washington, DC 20410-8000; telephone (202) 708-6401 (this is not a toll free number). Persons with hearing or speech impairments may access this number via TTY by calling the toll-free Federal Information Relay Service at (800) 877-8389.

SUPPLEMENTARY INFORMATION: On June 14, 2006 (71 FR 34476), HUD published its proposed rule that would establish a Federal manufactured home installation program. HUD is required to establish such a program in accordance with the National Manufactured Housing Construction and Safety Standards Act of 1974 (42 U.S.C. 5401 et seq.), as amended by the Manufactured Housing Improvement Act of 2000 (Title VI, Pub. L. 106-659, enacted December 27, 2000). States that have their own installation programs that include the elements required by statute are permitted to administer under their own state installation programs the new requirements that would be established through this proposed and final rulemaking.

The June 14, 2006, proposed rule provided for a 60-day public comment period. In response to significant public interest, HUD wants to provide additional time for interested parties to prepare and submit comments that HUD will consider in the development of the final rule; therefore, HUD is announcing through this notice that it is extending the public comment period on the June 14, 2006, proposed rule for an additional month. The new public comment deadline is September 14, 2006.

Dated: August 9, 2006.
Frank L. Davis,
General Deputy Assistant Secretary for Housing.

[FR Doc. E6-13382 Filed 8-15-06; 8:45 am]

BILLING CODE 4210-67-P